DEPARTMENT OF COMMERCE

International Trade Administration

[A-570-863]

Honey From the People's Republic of China: Initiation of Antidumping Duty New Shipper Review; 2014-2015

AGENCY: Enforcement and Compliance, International Trade Administration, Department of Commerce.

ACTION: Notice.

SUMMARY: The Department of Commerce (“the Department”) is initiating a new shipper review (“NSR”) of the antidumping duty (“AD”) order on honey from the People's Republic of China (“PRC”) with respect to Shanghai Sunbeauty Trading Co., Ltd. (“Shanghai Sunbeauty”). The period of review (“POR”) for this NSR is December 01, 2014, through November 30, 2015.

DATES: Effective Date: February 3, 2016.

FOR FURTHER INFORMATION CONTACT: Jessica Weeks, AD/CVD Operations, Office V, Enforcement and Compliance, International Trade Administration, U.S. Department of Commerce, 14th Street and Constitution Avenue NW., Washington, DC 20230; telephone: 202-482-4877.

SUPPLEMENTARY INFORMATION:

Background

The AD order on honey was published in the Federal Register on December 10, 2001.¹ On December 17, 2015, pursuant to section 751(a)(2)(B)(i) of the Tariff Act of 1930, as amended (“the Act”), and 19 CFR 351.214(b), the Department received a NSR request from Shanghai Sunbeauty.² Shanghai Sunbeauty certified that it is the exporter of the subject merchandise upon which the request is based and that its affiliate, Xiping Haina Trade Co., Ltd., is the producer of the subject merchandise.³

¹ See Notice of Amended Final Determination of Sales at Less Than Fair Value and Antidumping Duty Order; Honey from the People's Republic of China, 66 FR 63670 (December 10, 2001) (“Order”).

² See Letter from Shanghai Sunbeauty, “Honey from the People's Republic of China: Request for New Shipper Review,” dated December 17, 2015 (“NSR Request”).

³ Id., at 1-2 and Exhibit 1.

Pursuant to section 751(a)(2)(B) of the Act and 19 CFR 351.214(b)(2)(ii), Shanghai Sunbeauty certified that it did not export subject merchandise to the United States during the period of investigation (“POI”).⁴ Further, Xiping Haina Trade Co., Ltd. certified that it is the producer of the subject merchandise upon which the request is based. In addition, pursuant to section 751(a)(2)(B)(i)(II) of the Act and 19 CFR 351.214(b)(2)(iii)(A), Shanghai Sunbeauty certified that, since the initiation of the investigation, it has never been affiliated with any PRC exporter or producer who exported subject merchandise to the United States during the POI, including those respondents not individually examined during the investigation.⁵ As required by 19 CFR 351.214(b)(2)(iii)(B), Shanghai Sunbeauty also certified that its export activities were not controlled by the government of the PRC.⁶

⁴ Id.

⁵ Id.

⁶ Id.

In addition to the certifications described above, pursuant to 19 CFR 351.214(b)(2)(iv), Shanghai Sunbeauty submitted documentation establishing the following: (1) The date on which it first shipped subject merchandise for export to the United States; (2) the volume of its first shipment and subsequent shipments; and (3) the date of its first sale to an unaffiliated customer in the United States.⁷

⁷ Id., at 4 and Exhibit 2.

Finally, the Department conducted a U.S. Customs and Border Protection (“CBP”) database query and confirmed the price and quantity reported by Shanghai Sunbeauty.⁸

⁸ See Memorandum to the File from Catherine Bertrand, Program Manager, AD/CVD Operations, Office V regarding “U.S. Customs and Border Protection Query Results for Shanghai Sunbeauty Co., Ltd.” dated concurrently with this notice.

Initiation of New Shipper Review

Pursuant to section 751(a)(2)(B) of the Act, 19 CFR 351.214(b), and 19 CFR 351.214(d)(1), and based on the evidence provided by Shanghai Sunbeauty, we find that its request meets the threshold requirements for initiation of the NSR for shipments of honey from the PRC produced by Xiping Haina Trade Co., Ltd. and exported by Shanghai Sunbeauty.⁹ The POR is December 01, 2014, through November 30, 2015.¹⁰ If the information supplied by Shanghai Sunbeauty is found to be incorrect or insufficient during the course of this proceeding, the Department may rescind the review for Shanghai Sunbeauty or apply facts available pursuant to section 776 of the Act, depending on the facts on the record.

⁹ See Memorandum to the File, from Jessica Weeks, International Trade Compliance Analyst, “Honey from the People's Republic of China: New Shipper Initiation Checklist,” dated concurrently with this notice.

¹⁰ See 19 CFR 351.214(g)(1)(ii)(B).

Absent a determination that the new shipper review is extraordinarily complicated, the Department intends to issue the preliminary results of this NSR within 180 days from the date of initiation and the final results within 90 days after the date on which the preliminary results are issued.¹¹

¹¹ See section 751(a)(2)(B)(iv) of the Act and 19 CFR 351.214(i).

It is the Department's usual practice, in cases involving non-market economies (“NMEs”), to require that a company seeking to establish eligibility for an antidumping duty rate separate from the NME entity-wide rate provide evidence of de jure and de facto absence of government control over the company's export activities. Accordingly, we will issue questionnaires to Shanghai Sunbeauty that will include a section requesting information concerning its eligibility for a separate rate. The NSR will proceed if the responses provide sufficient indication that Shanghai Sunbeauty is not subject to either de jure or de facto government control with respect to its exports of subject merchandise.

We will instruct CBP to allow, at the option of the importer, the posting, until the completion of this review, of a bond or security in lieu of a cash deposit for each entry of the subject merchandise from the requesting companies in accordance with section 751(a)(2)(B)(iii) of the Act and 19 CFR 351.214(e). Because Shanghai Sunbeauty certified that its affiliate Xiping Haina Trade Co., Ltd. produced the subject merchandise which Shanghai Sunbeauty exported, the sales of which are the basis for the NSR request, we will instruct CBP to permit the use of a bond only for subject merchandise which Xiping Haina Trade Co., Ltd produced and Shanghai Sunbeauty exported.

Interested parties requiring access to proprietary information in this NSR should submit applications for disclosure under administrative protective order, in accordance with 19 CFR 351.305 and 19 CFR 351.306.

This initiation and notice are in accordance with section 751(a)(2)(B) of the Act, 19 CFR 351.214, and 19 CFR 351.221(c)(1)(i).

Dated: January 27, 2016.
Gary Taverman,
Associate Deputy Assistant Secretary for Antidumping and Countervailing Duty Operations.

[FR Doc. 2016-02004 Filed 2-2-16; 8:45 am]

BILLING CODE 3510-DS-P